DEPARTMENT OF THE INTERIOR

Bureau of Land Management

[LLOR-936000-L14300000-ET0000-14XL1116AF; HAG-14-0109; WAOR-50706]

Public Land Order No. 7832 Extension of Public Land Order No. 7133; Washington

AGENCY: Bureau of Land Management, Interior.

ACTION: Public Land Order.

SUMMARY: This order extends the duration of the withdrawal created by Public Land Order 7133 for an additional 20-year period. This extension is necessary to continue protection of the Brown Mountain, Pal Moore Meadows, Teepee, Cedar Creek, and Flowery Trail Seed Orchards, located in the Colville and Kaniksu National Forests, which will expire on April 12, 2015, unless extended.

DATE: Effective Date: April 13, 2015.

FOR FURTHER INFORMATION CONTACT: Michael L. Barnes, Bureau of Land Management Oregon/Washington State Office, 503-808-6155, or Candice Polisky, U.S. Forest Service Pacific Northwest Region, 503-808-2479. Persons who use a telecommunications device for the deaf (TDD) may call the Federal Information Relay Service (FIRS) at 1-800-877-8339 to contact the above individual. The FIRS is available 24 hours a day, 7 days a week, to leave a message or question with the above individual. You will receive a reply during normal business hours.

SUPPLEMENTARY INFORMATION: The purpose for which the withdrawal was first made requires this extension to continue protection of the investments made in the Brown Mountain, Pal Moore Meadows, Teepee, Cedar Creek, and Flowery Trail Seed Orchards in Colville and Kaniksu National Forests. The withdrawal extended by this order will expire on April 12, 2035, unless, as a result of a review conducted prior to the expiration date pursuant to Section 204(f) of the Federal Land Policy and Management Act of 1976 43 U.S.C. 1714, the Secretary of the Interior determines that the withdrawal shall be further extended.

Order

By virtue of the authority vested in the Secretary of the Interior by Section 204 of the Federal Land Policy and Management Act of 1976 43 U.S.C. 1714, it is ordered as follows:

Public Land Order No. 7133 (60 FR 18777(1995)), which withdrew 496.22 acres of National Forest System lands from location and entry under the United States mining laws (30 U.S.C. Ch. 2), but not from leasing under the mineral leasing laws, to protect the investment at the Brown Mountain, Pal Moore Meadows, Teepee, Cedar Creek, and Flowery Trail Seed Orchards, is hereby extended for an additional 20-year period until April 12, 2035.

Dated: March 23, 2015.
Janice M. Schneider,
Assistant Secretary—Land and Minerals Management.

[FR Doc. 2015-08009 Filed 4-7-15; 8:45 am]

BILLING CODE 3410-11-P